LEGAL SERVICES CORPORATION

Agricultural Worker Population Estimates for Basic Field—Migrant Grants

AGENCY: Legal Services Corporation.

ACTION: Notice.

SUMMARY: The Legal Services Corporation (LSC) seeks public comment on alternative estimates of the LSC-eligible agricultural worker population in Michigan. LSC obtained current estimates of LSC-eligible agricultural worker populations from the United States Department of Labor's Employment Training Administration (ETA) for the states, territories, and DC in order to revise LSC's distribution of LSC Basic Field funding between legal services grants for serving (1) the eligible general population and (2) the eligible agricultural worker population. LSC published those estimates for comment and received suggestions for alternative estimates in Michigan. LSC is publishing the alternative Michigan estimates for public comment.

DATES: Comments must be submitted on or before May 19, 2016.

ADDRESSES: Written comments must be submitted to Mark Freedman, Senior Associate General Counsel, Legal Services Corporation, 3333 K St. NW., Washington, DC 20007-3522; 202-337-6519 (fax); mfreedman@lsc.gov. LSC prefers electronic submissions via email with attachments in Acrobat PDF format. Written comments sent to any other address or received after the end of the comment period may not be considered by LSC.

FOR FURTHER INFORMATION CONTACT: Mark Freedman, Senior Associate General Counsel, Legal Services Corporation, 3333 K St. NW., Washington, DC 20007-3522; 202-295-1623 (phone); 202-337-6519 (fax); mfreedman@lsc.gov.

SUPPLEMENTARY INFORMATION:

I. Background

The Legal Services Corporation (LSC) seeks public comment on alternative estimates of the population of agricultural workers and dependents in Michigan who are LSC-eligible. The Michigan Advocacy Program (MAP) submitted these alternatives for LSC to use in lieu of the estimates provided by the U.S. Department of Labor's Employment Training Administration (ETA). LSC intends to select estimates to use for distribution of appropriated Basic Field Programs funds between legal services grants in Michigan serving the (1) eligible general population (Basic Field—General) and (2) the eligible agricultural worker population (Basic Field—Migrant).

On February 3, 2015, LSC published a notice for comment in the Federal Register with the history and context of LSC's decision to update the estimates of the eligible agricultural worker population in all LSC geographic areas (including the 50 states, the District of Columbia, and many U.S. territories), 80 FR 5791, February 3, 2015. LSC published the ETA estimates and related information online at www.lsc.gov/ag-worker-data. In response to the comments received, LSC obtained revised estimates from ETA, which LSC published for comment on February 5, 2016, 81 FR 6295, Feb. 5, 2016. MAP submitted alternative estimates for Michigan in response to the 2016 notice. LSC has posted the comments and materials related to this topic at www.lsc.gov/ag-worker-data. The MAP materials are:

• Michigan Advocacy Project, Comments (March 21, 2016)

• Michigan Advocacy Project, Attachments (March 21, 2016)

II. Proposed Alternative Estimates

MAP submitted proposals increasing the estimate of the number of eligible agricultural workers and dependents in Michigan, including by:

1. Increasing the estimate of total agricultural workers from 80,549 to 87,870; and

2. Increasing the percentage of dependents who are eligible from 31% to 60%. MAP provides analysis supporting these proposals in its comments.

III. Request for Comments

LSC seeks comment solely on the specific MAP proposals enumerated above. Comments should specifically address the rationale provided by MAP in its comments.

Dated: March 29, 2016.
Stefanie K. Davis,
Assistant General Counsel.

[FR Doc. 2016-07526 Filed 4-1-16; 8:45 am]

BILLING CODE 7050-01-P